DEPARTMENT OF LABOR

Employment and Training Administration

[TA-W-65,356]

Wheatland Tube Company, Sharon, PA; Notice of Termination of Investigation

Pursuant to Section 221 of the Trade Act of 1974, as amended, an investigation was initiated on February 24, 2009 in response to a petition filed by the United Steel Workers, Local 1016-00, on behalf of workers of Wheatland Tube Company, Sharon, Pennsylvania.

The petitioner has requested that the petition be withdrawn. Consequently, the investigation has been terminated.

Signed at Washington, DC, this 13th day of March 2009.
Elliott S. Kushner,
Certifying Officer, Division of Trade Adjustment Assistance.

[FR Doc. E9-6304 Filed 3-23-09; 8:45 am]

BILLING CODE 4510-FN-P